DEPARTMENT OF HEALTH AND HUMAN SERVICES

National Institutes of Health

Submission for OMB Review; Comment Request; An Evaluation of the National Cancer Institute Science Enrichment Program

SUMMARY: Under the provisions of section 3507(a)(1)(D) of the Paperwork Reduction Act of 1995, the National Cancer Institute (NCI), the National Institutes of Health (NIH) has submitted to the Office of Management and Budget (OMB) a request for review and approval of the information collection listed below. The proposed information collection was previously published in the Federal Register on December 5, 2002, pages 72422-72423 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: An Evaluation of the NCI Science Enrichment Program (SEP): Follow-up Survey. Type of Information Collection Request: Revision of a currently approved collection. (OMB No. 0925-0510, Expiration 2/28/2003). Need and Use of Information Collection: This follow-up survey is part of an evaluation designed to assess the effectiveness of the NCI SEP in meeting its goals of: (1) Encouraging under-represented minority and under-served students who have just completed ninth grade to select careers in science, mathematics, and/or research, and (2) broadening and enriching students' science, research, and sociocultural backgrounds. The program was a five- to six-week residential program taking place on two university campuses—University of Kentucky, Lexington and San Diego State University—in summers 1998-2002. The 5-year evaluation was designed as a controlled, longitudinal study, consisting of the five SEP cohorts and two cohorts of control group students who did not attend the program. The evaluation will provide NCI with valuable information regarding specific components that promoted or limited the program's effectiveness, the extent to which the program was implemented as planned, how much the two regional programs varied, and how the program can be improved or made more effective. NCI will use this information to make decisions regarding continuation and expansion of the program. Frequency of Response: One time. Affected Public: Individuals or households. Type of Respondents: High School and college students. Cost to Respondents: $9,600. the annual reporting burden is as follows:

Estimates of Hour Burden: Burden Not Previously Approved (1998-2002)
Type of respondents | Average number of respondents/yr. | Frequency of response | Average time per response | Average annual hour burden
SEP Participants | 200 | 1 | 0.5 | 100
Control Group Students | 200 | 1 | 0.5 | 100
Control Group Students | 100 | 2 (pre and post) | 1.00 | 100
Total | 500 |  |  | 300

Estimates of Hour Burden: Burden Requested
Type of respondents | Average number of respondents/yr. | Frequency of response | Average time per response | Average annual hour burden
SEP Participants | 500 | 1 (follow up) | 0.5 | 250
Control Group Students | 300 | 1 (follow up) | 0.5 | 150
Total | 800 |  |  | 400

There are no Capital Costs, Operating Costs, and/or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Office of Management and Budget, Office of Regulatory Affairs, New Executive Office Building, Room 10235, Washington, DC 20503. Attention: Desk Officer for NIH. To request more information on the proposed project or to obtain a copy of the date collection plans and instruments, contact: Mr. Frank Jackson, Office of Special Populations Research, National Cancer Institute, National Institutes of Health, Center to Reduce Cancer Health Disparities, National Cancer Institute, National Institutes of Health, 6116 Executive Boulevard, Suite 602, Rockville, MD 20852, or call non-toll-free number (301) 496-8589, or E-mail your request, including your address to: fj12i@nih.gov.

Comments Due Date: Comments regarding this information collection are best assured of having their full effect if received within 30 days of this publication.

Dated: February 21, 2003.
Reesa Nichols,
NCI Project Clearance Liaison.

[FR Doc. 03-5213 Filed 3-5-03; 8:45 am]

BILLING CODE 4140-01-M